DEPARTMENT OF AGRICULTURE

Forest Service

West Virginia Resource Advisory Committee

AGENCY: Forest Service, Agriculture (USDA).

ACTION: Notice of meeting.

SUMMARY: The West Virginia Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act, as well as make recommendations on recreation fee proposals for sites on the Monongahela National Forest within Greenbrier, Pocahontas, Randolph, Tucker, and Webster Counties, consistent with the Federal Lands Recreation Enhancement Act.

DATES: An in-person and virtual meeting will be held on Monday July 14, 2025, from 10 a.m. to 3 p.m. eastern daylight time, Thursday July 17, 2025, from 10 a.m. to 3 p.m. eastern daylight time, and Thursday July 31, 2025, from 10 a.m. to 3 p.m. eastern daylight time.

Written and Oral Comments: Anyone wishing to provide in-person or virtual oral comments must pre-register by 11:59 p.m. eastern daylight time on July 9, 2025. Written public comments will be accepted by 11:59 p.m. eastern daylight time on July 9, 2025 (for July 14th and July 17th meetings). For the July 31st meeting, anyone wishing to provide in-person or virtual oral comments must pre-register by 11:59 p.m. eastern daylight time on July 26, 2025. Written public comments will be accepted by 11:59 p.m. eastern daylight time on July 26, 2025. Comments submitted after these dates will be provided to the Agency, but the Committee may not have adequate time to consider those comments prior to the meeting.

All RAC meetings are subject to cancellation. For status of the meeting prior to attendance, please contact the person listed under FOR FURTHER INFORMATION CONTACT.

ADDRESSES: This meeting will be held in-person and virtually at the Monongahela National Forest Headquarters Building, First Floor Conference Room, located at 200 Sycamore Street, Elkins, West Virginia 26241. RAC information and meeting details can be found at the following website: https://www.fs.usda.gov/main/mnf/workingtogether/advisorycommittees or by contacting the person listed under FOR FURTHER INFORMATION CONTACT.

Written Comments: Written comments must be sent by email to kristopher.hennig@usda.gov or via mail (i.e., postmarked) to Kristopher Hennig, 200 Sycamore Street, Elkins, West Virginia 26241. The Forest Service strongly prefers comments to be submitted electronically.

Oral Comments: Persons or organizations wishing to make oral comments must pre-register by 11:59 p.m. eastern daylight time on July 10, 2025 (for meetings July 14th and July 17th) and speakers can only register for one speaking slot. Persons or organizations wishing to make oral comments must pre-register by 11:59 p.m. eastern daylight time on July 26, 2025 (for July 31st meeting) and speakers can only register for one speaking slot. Oral comments must be sent by email to Kristopher.Hennig@usda.gov or via mail (i.e., postmarked) to Kristopher Hennig, 200 Sycamore Street, Elkins, West Virgina 26241.

FOR FURTHER INFORMATION CONTACT: Cindy Sandeno, Designated Federal Officer (DFO), by phone at (304) 635-4482 or email at Cynthia.Sandeno@usda.gov or Kristopher Hennig, RAC Coordinator at (304) 635-4475 or email at Kristopher.Hennig@usda.gov.

SUPPLEMENTARY INFORMATION: The purpose of the meeting is to:

1. Elect a Chairperson and Co-Chair;

2. Recommend a proportion of Title II funds for RAC administrative purposes;

3. Hear from Title II project proponents and discuss Title II project proposals;

4. Make funding recommendations on Title II projects;

5. Approve meeting minutes; and

6. Conduct other business as needed.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: May 29, 2025.
Cikena Reid,
USDA Committee Management Officer.

[FR Doc. 2025-10094 Filed 6-26-25; 8:45 am]

BILLING CODE 3411-15-P